Proclamation 7864 of January 14, 2005

Religious Freedom Day, 2005

By the President of the United States of America

A Proclamation

George Washington wrote, “The liberty enjoyed by the people of these States, of worshipping Almighty God agreeably to their consciences, is not only among the choicest of their blessings, but also of their rights.” On Religious Freedom Day, Americans commemorate the passage of the Virginia Statute for Religious Freedom in 1786, which helped set the course for freedom of religion to be included in the First Amendment to our Constitution.

Our Founding Fathers knew the importance of freedom of religion to a stable and lasting Union. Our Constitution protects individuals' rights to worship as they choose. Today, we continue to welcome the important contributions of people of faith in our society. We reject religious bigotry in every form, striving for a society that honors the life and faith of every person. As we maintain the vitality of a pluralistic society, we work to ensure equal treatment of faith-based organizations and people of faith.

As the United States advances the cause of liberty, we remember that freedom is not America's gift to the world, but God's gift to each man and woman in this world. This truth drives our efforts to help people everywhere achieve freedom of religion and establish a better, brighter, and more peaceful future for all.

NOW, THEREFORE, I, GEORGE W. BUSH, President of the United States of America, by virtue of the authority vested in me by the Constitution and laws of the United States, do hereby proclaim January 16, 2005, as Religious Freedom Day. I encourage all Americans to reflect on the great blessing of religious freedom, to endeavor to preserve this freedom for future generations, and to commemorate this day through appropriate events and activities in homes, schools, and places of worship.

IN WITNESS WHEREOF, I have hereunto set my hand this fourteenth day of January, in the year of our Lord two thousand five, and of the Independence of the United States of America the two hundred and twenty-ninth.

B

[FR Doc. 05-1256

Filed 1-19-05; 9:29 am]

Billing code 3195-01-P